INTERNATIONAL TRADE COMMISSION

[Investigation No. 337-TA-1189]

Certain Dissolving Microneedle Patches for Cosmetic and Pharmaceutical Use; Commission Determination Not To Review an Initial Determination Terminating the Investigation Based on Withdrawal of the Complaint; Termination of the Investigation

AGENCY: U.S. International Trade Commission.

ACTION: Notice.

SUMMARY: Notice is hereby given that the U.S. International Trade Commission has determined not to review the Administrative Law Judge's (“ALJ”) initial determination (“ID”) (Order No. 7) terminating the investigation in its entirety based on withdrawal of the complaint. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone 202-205-1810.

SUPPLEMENTARY INFORMATION: On January 15, 2020, the Commission instituted this investigation based on a complaint, as supplemented and amended, filed on behalf of TheraJect, Inc. of Fremont, California. 85 FR 2439-40 (Jan. 15, 2020). The amended complaint alleges violations of section 337 of the Tariff Act of 1930, as amended, 19 U.S.C. 1337, based upon the importation into the United States, the sale for importation, and the sale within the United States after importation of certain dissolving microneedle patches for cosmetic and pharmaceutical use by reason of infringement of one or more of claims of U.S. Patent No. 6,945,952. Id. The amended complaint also alleges that a domestic industry is in the process of being established. The Commission's notice of investigation names one respondent, Raphas Co., Ltd. of Seoul, South Korea. Id. The Office of Unfair Import Investigations is also named as a party in this investigation. Id.

On March 9, 2020, the complainant filed an unopposed motion to terminate the investigation in its entirety.

On March 18, 2020, the ALJ issued the subject ID (Order No. 7) pursuant to 19 CFR 210.21(a)(1), granting Complainant's motion. ID at 1. The ID finds that the motion for termination of this investigation complies with the Commission's rules. Id. at 1-2. The ID further finds that there are no extraordinary circumstances that warrant denying the motion. Id. at 2. No party petitioned for review of the ID.

The Commission has determined not to review the subject ID. The investigation is terminated.

The authority for the Commission's determination is contained in section 337 of the Tariff Act of 1930, as amended (19 U.S.C. 1337), and in Part 210 of the Commission's Rules of Practice and Procedure (19 CFR part 210).

By order of the Commission.
Issued: April 3, 2020.
Lisa Barton,
Secretary to the Commission.

[FR Doc. 2020-07366 Filed 4-7-20; 8:45 am]

BILLING CODE 7020-02-P